DEPARTMENT OF ENERGY

Preventing Outages and Enhancing the Resilience of the Electric Grid Formula Grants to States and Indian Tribes

AGENCY: Grid Deployment Office, Department of Energy.

ACTION: Notice of intent.

SUMMARY: The U.S. Department of Energy's (DOE's) National Energy Technology Laboratory (NETL) intends to issue, on behalf of the DOE Grid Deployment Office (GDO), an amendment to the Administrative and Legal Requirements Document (ALRD) DE-FOA-0002736 (BIL—Preventing Outages and Enhancing the Resilience of the Electric Grid Formula Grants to States and Indian Tribes), titled Amendment 000008. This grant program is authorized under of the Bipartisan Infrastructure Law (BIL), and Amendment 000008 provides access to fiscal year (FY) 2024 formula grant allocations.

ADDRESSES: Requests for more information should be addressed by electronic mail to david.parsons@hq.doe.gov.

FOR FURTHER INFORMATION CONTACT: David Parsons, (240) 449-7764, david.parsons@hq.doe.gov.

SUPPLEMENTARY INFORMATION: The BIL is a once-in-a-generation investment in infrastructure, which will grow a more sustainable, resilient, and equitable economy through enhancing U.S. competitiveness, driving the creation of good-paying union jobs, and ensuring stronger access to economic, environmental, and other benefits for disadvantaged communities. The BIL appropriates more than $62 billion to DOE to invest in American manufacturing and workers; expand access to energy efficiency; deliver reliable, clean, and affordable power to more Americans; and deploy the technologies of tomorrow through clean energy demonstrations.

The forthcoming ALRD Amendment 000008, expected to take effect in January 2024 (available at: https://www.fedconnect.net/fedconnect/?doc=DE-FOA-0003221&agency=DOE), will support the Administration and Congressional goals to (1) demonstrate measurable improvements in energy resilience in the United States and mitigate climate related risk, (2) invest in modernized grid infrastructure that can enable consumer access to lower-cost energy and accommodate increased electrification, increased penetrations of variable renewable electricity and distributed energy resources, and other evolving system needs over the coming decades, (3) invest in clean energy and decarbonization solutions to achieve a carbon-free power sector by 2035 and net-zero greenhouse gas emissions economy-wide by 2050, and (4) create good-paying jobs with the free and fair choice to join a union.

The purpose of ALRD Amendment 000008 is to allow for submission of applications for the FY 2024 formula grant allocations. The FY 2024 formula grant allocation amounts are available at: https://netl.doe.gov/bilhub/grid-resilience/formula-grants. The process for requesting a FY 2024 allocation depends on whether the applicant is an existing grant recipient, a current grant applicant, or a new grant applicant:

• Existing Grant Recipients that have already received grants for FY 2022 and FY 2023 of the Program will have 90 days from the issuance of ALRD Amendment 000008 to request their FY 2024 allocation, in accordance with the Terms and Conditions of their current Grant award.

• Current Grant Applicants that previously submitted a grant application for FY 2022 and FY 2023 of the program but have not yet received their grant at the time the ALRD Amendment 000008 (for FY 2024) is issued, will have 90 days from the issuance of ALRD Amendment 000008 to amend their submitted grant application to include the FY 2024 allocations.

• New Grant Applicants are eligible applicants (as defined in ALRD Amendment 0000008) that did not submit a grant application for FY 2022 and FY 2023 of the Program. New Grant Applicants will have 90 days from the issuance of ALRD Amendment 000008 to submit a grant application for a FY 2024 allocation. Several one-time actions, explained below, must be completed before an application can be submitted, including registration with the System for Award Management (SAM), obtaining a Unique Entity Identifier (UEI), and registering with FedConnect.net. These actions can be completed prior to the issuance of ALRD Amendment 000008. Prospective New Grant Applicants are encouraged to address these items as soon as possible, as some may take several weeks to complete. Additional instructions for New Grant Applicants will be provided in the ALRD Amendment 000008.

Note: Neither applications nor allocation requests are being accepted at this time.

The current ALRD (Amendment 000007) is available at: https://www.fedconnect.net/fedconnect/?doc=DE-FOA-0002736&agency=DOE.

New Grant Applicants must complete the following steps in order to submit their application via FedConnect:

Pre-application actions:

SAM—Applicants must register with the SAM at https://www.sam.gov/ prior to submitting an application in response to this ALRD. Designating an Electronic Business Point of Contact (EBiz POC) and obtaining a special password called an MPIN are important steps in SAM registration. The applicant must maintain an active SAM registration with current information at all times during which it has an active Federal award or an application under consideration. More information about SAM registration for applicants is available at: https://www.fsd.gov/gsafsd_sp?id=gsafsd_kb_articles&sys_id=650d493e1bab7c105465 eaccac4bcbcb.

Note: If clicking the SAM links do not work, please copy and paste the link into your browser.

UEI—Applicants must obtain an UEI from the SAM to uniquely identify the entity. The UEI is available in the SAM entity registration record.

Note: Subawardees/subrecipients at all tiers must also obtain an UEI from the SAM and provide the UEI to the award recipient before the subaward can be issued.

Note: Due to the high demand of UEI requests and SAM registrations, entity legal business name and address validations are taking longer than expected to process. Entities should start the UEI and SAM registration process as soon as possible. If entities have technical difficulties with the UEI validation or SAM registration process they should utilize the HELP feature on SAM.gov. SAM.gov will address entity service tickets in the order in which they are received and asks that entities not create multiple service tickets for the same request or technical issue.

FedConnect.net—Applicants must register with FedConnect to submit applications in response to the ALRD, to submit questions, and to receive the award. FedConnect website: https://www.fedconnect.net/. For more information regarding registration with FedConnect, review the FedConnect Ready, Set, Go! Guide at: https://www.fedconnect.net/FedConnect/Marketing/Documents/FedConnect_Ready_Set_Go.pdf.

Electronic Signatures—Acknowledgement of award documents by the Grant Recipient authorized representative through electronic systems used by the Department of Energy, including FedConnect, constitutes the Grantee's acceptance of the terms and conditions of the award. Acknowledgement via FedConnect by the Grantee's authorized representative constitutes the Grantee's electronic signature.

Signing Authority

This document of the Department of Energy was signed on December 14, 2023, by Maria D. Robinson, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 20, 2023.
Treena V. Garrett,
Federal Register Liaison Officer, U.S. Department of Energy.

[FR Doc. 2023-28401 Filed 12-22-23; 8:45 am]

BILLING CODE 6450-01-P